DEPARTMENT OF STATE

[Public Notice 6016]

U.S. National Commission for UNESCO Notice of Open Advisory Committee Teleconference Meeting

Summary: The U.S. National Commission for UNESCO will meet via telephone conference on Monday, January 7, 2008, from 11 a.m. until 12 p.m. Eastern Time. The purpose of the teleconference meeting is to consider the recommendations of the Commission's National Committee for the Intergovernmental Oceanographic Commission (IOC). The U.S. National Committee for the IOC was asked to provide recommendations on the UNESCO study related to the Future of the IOC (for more information see IOC Circulars #2247 and #2249 http://ioc3.unesco.org/cl/letters/CL%202247_e.pdf and http://ioc3.unesco.org/cl/letters/CL%202249_e.pdf). The call will also be an opportunity to provide an update on recent and upcoming Commission and UNESCO activities. The Commission will accept brief oral comments during a portion of this conference call. This public comment period will last 15 minutes, and comments are limited to two minutes per person. Members of the public who wish to present oral comments or to listen to the conference call must make arrangements with the Executive Secretariat of the National Commission by January 4, 2008. For more information or to arrange to participate in the teleconference meeting, contact Alex Zemek, Deputy Executive Director of the U.S. National Commission for UNESCO, Washington, DC 20037. Telephone: (202) 663-0026; Fax: (202) 663-0035; e-mail: DCUNESCO@state.gov.

Dated: December 18, 2007.
Susanna Connaughton,
U.S. National Commission for UNESCO, Department of State.

[FR Doc. E7-25072 Filed 12-26-07; 8:45 am]

BILLING CODE 4710-19-P